DEPARTMENT OF DEFENSE

Department of the Air Force

HQ USAF Scientific Advisory Board; Meeting

AGENCY: Department of the Air Force, DoD.

ACTION: Notice of meeting.

SUMMARY: Pursuant to Public Law 92-463, notice is hereby given of the forthcoming meeting of the 311th Human Systems Wing Advisory Group. The purpose of the meeting is to provide technical advice and assessment to the Commander, 311th Human System Wing. Because classified and contractor-proprietary information will be discussed, this meeting will be closed to the public.

DATES: November 24-27, 2002.

ADDRESSES: Brooks City Base, San Antonio, Texas.

FOR FURTHER INFORMATION CONTACT: Major John Pernot, Air Force Scientific Advisory Board Secretariat, 1180 Air Force Pentagon, Room 5D982, Washington DC 20330-1180, (703) 697-4811.

Pamela D. Fitzgerald,
Air Force Federal Register Liaison Officer.

[FR Doc. 02-28285 Filed 11-6-02; 8:45 am]

BILLING CODE 5001-5-P